DEPARTMENT OF COMMERCE

National Oceanic and Atmospheric Administration

50 CFR Part 679

RIN 0648-XH70

Fisheries of the Exclusive Economic Zone Off Alaska; Groundfish Fisheries in the Gulf of Alaska

AGENCY: National Marine Fisheries Service (NMFS), National Oceanic and Atmospheric Administration (NOAA), Commerce.

ACTION: Availability of a proposed amendment to a fishery management plan; request for comments.

SUMMARY: The North Pacific Fishery Management Council (Council) has submitted proposed Amendment 79 to the Fishery Management Plan for Groundfish of the Gulf of Alaska (FMP) for Secretarial review. If approved, Amendment 79 would amend the FMP and require the Council to annually recommend an aggregate overfishing level (OFL) and acceptable biological catch (ABC) for the “other species” category in the Gulf of Alaska (GOA). The “other species” category consists of sharks, sculpins, squid, and octopus. Currently, the Council only sets total allowable catch (TAC) for the “other species” category, which is intended to accommodate the directed catch of “other species” and incidental catch in other groundfish fisheries. The revised process would allow the Council to incorporate the best and most recent scientific and socio-economic information and public testimony in its recommendation for an annual “other species” TAC. The purpose of this amendment is to provide a sound biological basis for the setting of the “other species” TAC, ABC, and OFL, and is necessary to comply with the Magnuson-Stevens Fishery Conservation and Management Act.

DATES: Comments must be received on or before July 28, 2008.

ADDRESSES: Send comments to Sue Salveson, Assistant Regional Administrator, Sustainable Fisheries Division, Alaska Region, NMFS, Attn: Ellen Sebastian. You may submit comments, identified by RIN 0648-XH70 by any one of the following methods:

• Electronic Submissions: Submit all electronic public comments via the Federal eRulemaking Portal website at http://www.regulations.gov.

• Mail: P.O. Box 21668, Juneau, AK 99802.

• Fax: 907-586-7557

• Hand delivery to the Federal Building: 709 West 9th Street, Room 420A, Juneau, AK.

All comments received are a part of the public record and will be generally posted to http://www.regulations.gov without change. All Personal Identifying Information (e.g., name, address) voluntarily submitted by the commenter may be publicly accessible. Do not submit Confidential Business Information or otherwise sensitive or protected information.

NMFS will accept anonymous comments. Attachments to electronic comments will be accepted in Microsoft Word, Excel, WordPerfect, or Adobe portable document file (pdf) formats only.

Copies of Amendment 79 and the Environmental Assessment (EA) prepared for this action are available from the NMFS Alaska Region at the address above or from the Alaska Region website at http://www.fakr.noaa.gov/.

FOR FURTHER INFORMATION CONTACT: Tom Pearson, 907-481-1780.

SUPPLEMENTARY INFORMATION: The Magnuson-Stevens Fishery Conservation and Management Act (Magnuson-Stevens Act) requires that each regional fishery management council submit any fishery management plan amendment to NMFS for review and approval, disapproval, or partial approval by the Secretary of Commerce. The Magnuson-Stevens Act also requires that NMFS, upon receiving a proposed amendment, immediately publish a notice in the Federal Register that the amendment is available for public review and comment. This action constitutes such notice for Amendment 79 to the FMP. NMFS will consider public comments received during the comment period in determining whether to approve this FMP amendment.

In 2006, NMFS implemented Amendment 69 to the FMP that allowed the North Pacific Fishery Management Council (Council) to set the TAC for the “other species” category at or below 5 percent of the combined TACs for the GOA target species, which accommodated incidental catch in directed groundfish fisheries. This was an interim step to provide greater protection for the constituent species of the “other species” category until additional data allowed for adequate stock assessment. Under this system, the FMP did not authorize the specification of OFLs and ABCs for the “other species” category.

In April 2008, the Council unanimously recommended Amendment 79 to the FMP. The purpose of Amendment 79 is to provide a sound biological basis for the setting of the “other species” TAC and to provide for an annual review of the stock status of the “other species” category to further reduce the risk of overfishing the species in the “other species” category. Amendment 79 would authorize aggregate OFL and ABC levels for the “other species” category in the GOA as part of the annual groundfish harvest specifications process. The revised process would allow the Council to incorporate the best and most recent scientific and socio-economic information and public testimony in its recommendation for an annual “other species” TAC. The proposed amendment is intended to comply with the Magnuson-Stevens Act, particularly National Standard 1 and Section 303(a), and other applicable laws.

Public comments are being solicited on proposed Amendment 79 through July 28, 2008. All comments received by the close of the business on the last day of the comment period on the amendment will be considered in the approval/disapproval decision. Comments received after that date will not be considered.

Dated: May 22, 2008.
Samuel D. Rauch III,
Deputy Assistant Administrator For Regulatory Programs, National Marine Fisheries Service.

[FR Doc. E8-12010 Filed 5-28-08; 8:45 am]

BILLING CODE 3510-22-S